DEPARTMENT OF TRANSPORTATION

Federal Aviation Administration

14 CFR Part 71

[Docket No. FAA-2010-0183; Airspace Docket No. 10-ASW-5]

Amendment of Class D Airspace; Fort Worth NAS JRB (Carswell Field), TX

AGENCY: Federal Aviation Administration (FAA), DOT.

ACTION: Final rule.

SUMMARY: This action amends the geographic coordinates within the Fort Worth Naval Air Station (NAS) JRB (Carswell Field), TX, area and renames the navigation aids, at the request of the U.S. Navy, that are listed in the description. This action does not change the boundaries or operating requirements of the airspace.

DATES: Effective date: 0901 UTC, March 10, 2011. The Director of the Federal Register approves this incorporation by reference action under 1 CFR part 51, subject to the annual revision of FAA Order 7400.9 and publication of conforming amendments.

FOR FURTHER INFORMATION CONTACT: Scott Enander, Central Service Center, Operations Support Group, Federal Aviation Administration, Southwest Region, 2601 Meacham Blvd., Fort Worth, TX 76137; telephone (817) 321-7716.

SUPPLEMENTARY INFORMATION:

The Rule

This action amends Title 14 Code of Federal Regulations (14 CFR) part 71 by adjusting the geographic coordinates of the Fort Worth NAS JRB (Carswell Field) Class D airspace, Fort Worth, TX, and the navigation aids, to coincide with the FAAs Aeronautical Products. This action also changes the names of the Carswell ILS Localizer North, Carswell ILS Localizer South, and Carswell TACAN to the NAS JRB Fort Worth ILS Localizer North, NAS JRB Fort Worth ILS Localizer South, and NAS JRB Fort Worth TACAN at the request of the U.S. Navy. This is an administrative change and does not affect the boundaries, altitudes, or operating requirements of the airspace, therefore, notice and public procedures under 5 U.S.C. 553(b) are unnecessary.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the U.S. Code. Subtitle 1, section 106, describes the authority of the FAA Administrator. Subtitle VII, Aviation Programs, describes in more detail the scope of the agency's authority. This rulemaking is promulgated under the authority described in subtitle VII, part A, subpart I, section 40103. Under that section, the FAA is charged with prescribing regulations to assign the use of airspace necessary to ensure the safety of aircraft and the efficient use of airspace. This regulation is within the scope of that authority as it amends controlled airspace at Fort Worth NAS JRB (Carswell Field), Fort Worth, TX.

List of Subjects in 14 CFR Part 71

Airspace, Incorporation by reference, Navigation (Air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(g), 40103, 40113, 40120; E. O. 10854, 24 FR 9565, 3 CFR, 1959-1963 Comp., p. 389.

§ 71.1 [Amended]

2. The incorporation by reference in 14 CFR 71.1 of the Federal Aviation Administration Order 7400.9U, Airspace Designations and Reporting Points, dated August 18, 2010, and effective September 15, 2010, is amended as follows:

Paragraph 5000 Class D airspace.

* * * * *

ASW TX D Fort Worth NAS JRB (Carswell Field), TX [Amended]

Fort Worth Naval Air Station JRB (Carswell Field), TX

(Lat. 32°46′09″ N., long. 97°26′30″ W.)

NAS JRB Fort Worth ILS Localizer North

(Lat. 32°47′19″ N., long. 97°26′29″ W.)

NAS JRB Fort Worth TACAN

(Lat. 32°46′17″ N., long. 97°26′22″ W.)

NAS JRB Fort Worth ILS Localizer South

(Lat. 32°44′47″ N., long. 97°26′30″ W.)

That airspace extending upward from the surface up to and including 3,000 feet MSL within a 4.5-mile radius of Fort Worth Naval Air Station JRB (Carswell Field) and within 1 mile each side of the NAS JRB Fort Worth ILS Localizer North course extending from the 4.5-mile radius to 6.5 miles north of the airport, and within 1.3 miles each side of the 359° radial of the NAS JRB Fort Worth TACAN extending from the 4.5-mile radius to 6.5 miles north of the airport, and within 1 mile each side of the NAS JRB Fort Worth ILS Localizer South course extending from the 4.5-mile radius to 6.5 miles south of the airport, and within 1.3 miles each side of the 182° radial from the NAS JRB Fort Worth TACAN extending from the 4.5-mile radius to 6.5 miles south of the airport, excluding that airspace east of long. 97°24′00″ W.

Issued in Fort Worth, Texas, on December 21, 2010.
Roger M. Trevino,
Acting Manager Operations Support Group, ATO Central Service Center.

[FR Doc. 2011-204 Filed 1-10-11; 8:45 am]

BILLING CODE 4910-13-P